DEPARTMENT OF HEALTH AND HUMAN SERVICES

National Institutes of Health

National Institute of Mental Health; Notice of Request for Information

Notice is hereby given of a Request for Information (RFI): Interagency Autism Coordinating Committee Draft Strategic Plan for Autism Spectrum Disorder (ASD) Research is Available for Comment, NOT-MH-08-021, issued by the National Institute of Mental Health on behalf of the Interagency Autism Coordinating Committee (IACC).

The draft Strategic Plan does not include cost estimates for implementation. However, the IACC has formed a workgroup to advise the IACC about the budgetary requirements needed to fulfill the research objectives described in the draft Strategic Plan. The IACC will review the workgroup recommendations at its next meeting on November 21, 2008.

The purpose of this time-sensitive RFI is to seek comments on the draft Strategic Plan from ASD stakeholders such as individuals with ASD and their families, autism advocates, scientists, health professionals, therapists, educators, officials of state and local programs for ASD, and the public at large. Please see the official RFI notice at http://grants.nih.gov/grants/guide/notice-files/NOT-MH-08-021.html for more information and instructions for responding by the deadline of September 30, 2008. Responses should be directed to iacc@mail.nih.gov.

Contact Person: Attention: Strategic Plan for ASD Research RFI, Office of the Director, National Institute of Mental Health, NIH, 6001 Executive Boulevard, Room 8235, MSC 9669, Bethesda, MD 20892-9669, iaccpublicinquiries@mail.nih.gov.

Information about the IACC is available on the Web site: http://www.nimh.nih.gov/research-funding/scientific-meetings/recurring-meetings/iacc/index.shtml.

Dated: August 26, 2008.
Anna Snouffer,
Deputy Director, Office of Federal Advisory Committee Policy.

[FR Doc. E8-20318 Filed 9-2-08; 8:45 am]

BILLING CODE 4140-01-P